Executive Order 13541 of May 7, 2010

Temporary Organization To Facilitate a Strategic Partnership With the Republic of Iraq

By the authority vested in me as President by the Constitution and the laws of the United States of America, including section 202 of the Revised Statutes (22 U.S.C. 2656) and section 3161 of title 5, United States Code, it is hereby ordered as follows:

Section 1. Establishment. There is established within the Department of State, in accordance with section 3161 of title 5, United States Code, a temporary organization to be known as the Iraq Strategic Partnership Office (ISPO).

Sec. 2. Purpose of the Temporary Organization. The purpose of the ISPO shall be to perform the specific project of supporting executive departments and agencies in facilitating the strategic partnership between the U.S. Government and the Republic of Iraq, in further securing and stabilizing the country, and in continuing an effective diplomatic presence in Iraq.

Sec. 3. Functions of the Temporary Organization. In carrying out its purpose set forth in section 2, the ISPO shall:

(a) support executive departments and agencies in transitioning to a strategic partnership with the Republic of Iraq in economic, diplomatic, cultural, and security fields based on the Strategic Framework Agreement;

(b) assist with and coordinate the drawdown of Provincial Reconstruction Teams;

(c) support and create a sustainable Rule of Law mission in Iraq, including the Police Development Program;

(d) complete any remaining coordination, oversight, or reporting functions for Iraq Relief and Reconstruction Fund monies;

(e) assume any functions assigned to the Iraq Transition Assistance Office (ITAO) remaining as of the date of this order; and

(f) perform such other functions related to the specific project set forth in section 2 as the Secretary of State (Secretary) may assign.

Sec. 4. Personnel and Administration. (a) The ISPO shall be headed by a Director selected by the Secretary.

(b) The Secretary shall transfer from the ITAO to the ISPO the personnel, assets, liabilities, and records of the ITAO.

Sec. 5. General Provisions. (a) This order shall be implemented in accordance with applicable law, subject to the availability of appropriations, and consistent with Presidential guidance.

(b) Nothing in this order shall be construed to impair or otherwise affect:

(i) authority granted by law to an executive department, agency, or the head thereof; or

(ii) functions of the Director of the Office of Management and Budget relating to budgetary, administrative, or legislative proposals.

(c) This order is not intended to, and does not, create any right or benefit, substantive or procedural, enforceable at law or in equity by any party against the United States, its departments, agencies, or entities, its officers, employees, or agents, or any other person.

(d) The ISPO shall terminate at the end of the maximum period permitted by section 3161 (a) (1) of title 5, United States Code, unless sooner terminated by the Secretary.

THE WHITE HOUSE,

May 7, 2010.

[FR Doc. 2010-11557

Filed 5-11-10; 11:15 am]

Billing code 3195-W0-P